DEPARTMENT OF LABOR

Employment and Training Administration

[TA-W-65,515]

Bayloff Stamped Products, Kinsman, OH; Notice of Termination of Investigation

Pursuant to Section 221 of the Trade Act of 1974, as amended, an investigation was initiated on March 9, 2009 in response to a petition filed by the United Steelworkers of America, Local 1-00592 on behalf of workers of Bayloff Stamped Products, Kinsman, Ohio.

The petitioner has requested that the petition be withdrawn. Therefore, the investigation under this petition has been terminated.

Signed at Washington, DC, this 10th day of April 2009.
Linda G. Poole,
Certifying Officer, Division of Trade Adjustment Assistance.

[FR Doc. E9-10873 Filed 5-8-09; 8:45 am]

BILLING CODE 4510-FN-P